DEPARTMENT OF COMMERCE

National Oceanic and Atmospheric Administration

RIN 0648-XB61

Pacific Fishery Management Council; Public Meetings

AGENCY: National Marine Fisheries Service (NMFS), National Oceanic and Atmospheric Administration (NOAA), Commerce.

ACTION: Notice of public meetings.

SUMMARY: The Pacific Fishery Management Council's (Council) Highly Migratory Species Management Team (HMSMT) and Highly Migratory Species Advisory Subpanel (HMSAS) will hold work sessions, which are open to the public.

DATES: The meetings will be held on August 14-16, 2007. The HMSMT work session will begin at 10 a.m. on Tuesday, August 14, 2007; the HMSMT and HMSAS will begin meeting jointly at 1 p.m. on the same day and continue until 5:30 p.m. The joint meeting of the HMSMT and HMSAS will resume on Wednesday, August 15, 2007, at 8:30 a.m. and continue until 5 p.m. The HMSMT will again meet on Thursday, August 16, 2007, beginning at 8:30 a.m. until business is completed.

ADDRESSES: The work sessions will be held at the National Marine Fisheries Service, Southwest Fisheries Science Center, Large Conference Room and Green Room, 8604 La Jolla Shores Drive, La Jolla, CA 92037; telephone: (858) 546-7000.

Council address: Pacific Fishery Management Council, 7700 NE Ambassador Place, Suite 101, Portland, OR 97220-1384.

FOR FURTHER INFORMATION CONTACT: Dr. Kit Dahl, Pacific Fishery Management Council; telephone: (503) 820-2280.

SUPPLEMENTARY INFORMATION: The HMSMT/HMSAS work sessions will discuss the latest North Pacific albacore stock assessment, preparation of the HMS Stock Assessment and Fishery Evaluation (SAFE) report, HMS exempted fishing permit issues, electronic logbooks, Magnuson-Stevens Act reauthorization implementation, international fisheries issues, management concepts for the high seas shallow-set longline fishery, research on the use of lightsticks in longline fisheries, and research and data related issues.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Ms. Carolyn Porter at (503) 820-2280 at least 5 days prior to the meeting date.

Authority: 16 U.S.C. 1801 et seq.

Dated: July 18, 2007.
Tracey L. Thompson,
Acting Director, Office of Sustainable Fisheries, National Marine Fisheries Service.

[FR Doc. E7-14178 Filed 7-20-07; 8:45 am]

BILLING CODE 3510-22-S